DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than June 1, 2021.

Interested persons are invited to submit written comments regarding the subject matter of the investigations to the Administrator, Office of Trade Adjustment Assistance, at the address shown below, not later than June 1, 2021.

The petitions filed in this case are available for inspection at the Office of the Administrator, Office of Trade Adjustment Assistance, Employment and Training Administration, U.S. Department of Labor, Room N-5428, 200 Constitution Avenue NW, Washington, DC 20210.

Signed at Washington, DC this 6th day of May 2021.
Hope D. Kinglock
Certifying Officer, Office of Trade Adjustment Assistance.

Appendix

62 TAA Petitions Instituted Between 4/1/21 and 4/30/21
TA-W | Subject firm (petitioners) | Location | Date of institution | Date of petition
96818 | Waddell and Reed, Inc. (State Official) | Mission, KS | 01-Apr-2021 | 31-Mar-2021.
96819 | Micro Contacts, Inc. DBA Micro Technologies (State Official) | Hicksville, NY | 01-Apr-2021 | 31-Mar-2021.
96820 | Clarios (Union Official) | Canby, OR | 01-Apr-2021 | 31-Mar-2021.
96821 | Pacific Wood Laminates, a subsidiary of South Coast Lumber Company (State Official) | Brookings, OR | 02-Apr-2021 | 01-Apr-2021.
96822 | XPO Logistics (American Job Center) | Hazelwood, MO | 02-Apr-2021 | 01-Apr-2021.
96823 | GCI Communication Corporation (Authorized Representative) | Anchorage, AK | 02-Apr-2021 | 01-Apr-2021.
96824 | Aetna Resources, LLC (State Official) | Middletown, CO | 02-Apr-2021 | 01-Apr-2021.
96825 | Greater Machining and Manufacturing (State Official) | Independence, IA | 02-Apr-2021 | 01-Apr-2021.
96826 | Lucite International (State Official) | Nederland, TX | 02-Apr-2021 | 01-Apr-2021.
96827 | Acme Industries, Inc. (State Official) | Elk Grove Village, IL | 02-Apr-2021 | 01-Apr-2021.
96828 | Scot Forge Company (State Official) | Spring Grove, IL | 02-Apr-2021 | 01-Apr-2021.
96829 | Finkl Steel (State Official) | Chicago, IL | 02-Apr-2021 | 01-Apr-2021.
96830 | Eaton Corporation (State Official) | Wilsonville, OR | 06-Apr-2021 | 05-Apr-2021.
96831 | Metaldyne Powertrain Components, LLC (Company Official) | Litchfield, MI | 06-Apr-2021 | 05-Apr-2021.
96832 | STTS USA, Inc. (Satys) (State Official) | Portland, OR | 06-Apr-2021 | 05-Apr-2021.
96833 | ICC Northwest, Inc. (State Official) | Canby, OR | 07-Apr-2021 | 06-Apr-2021.
96834 | H.W. Metal Products, Inc. (State Official) | Tualatin, OR | 07-Apr-2021 | 06-Apr-2021.
96835 | Novo Manufacturing (State Official) | Bowerston, OH | 07-Apr-2021 | 06-Apr-2021.
96836 | Endura Products, Inc. (State Official) | Nacogdoches, TX | 08-Apr-2021 | 07-Apr-2021.
96837 | GP Strategies Corporation (State Official) | Bloomington, IN | 08-Apr-2021 | 07-Apr-2021.
96838 | Cleveland Cliffs Steel Corporation (State Official) | Dearborn, MI | 08-Apr-2021 | 07-Apr-2021.
96839 | Webster Bank, N.A. (State Official) | New Britain, CT | 08-Apr-2021 | 08-Apr-2021.
96840 | Kobelco Construction Machinery USA, Inc. (State Official) | MOORE, SC | 09-Apr-2021 | 08-Apr-2021.
96841 | Earle M. Jorgensen Company (Union Official) | Bedford Heights, OH | 12-Apr-2021 | 11-Apr-2021.
96842 | TTEC Healthcare Solutions, LLC (State Official) | Weber City, VA | 13-Apr-2021 | 09-Apr-2021.
96843 | Sykes (State Official) | Boise, ID | 13-Apr-2021 | 12-Apr-2021.
96844 | Moovel North America, LLC (State Official) | Portland, OR | 14-Apr-2021 | 13-Apr-2021.
96845 | Schneider Electric (Company Official) | Foxboro, MA | 14-Apr-2021 | 13-Apr-2021.
96846 | Patriot Converting (State Official) | Newton, IA | 14-Apr-2021 | 13-Apr-2021.
96847 | Genex Cooperative (State Official) | Ithaca, NY | 14-Apr-2021 | 13-Apr-2021.
96848 | Clarios Recycling (State Official) | Florence, SC | 15-Apr-2021 | 14-Apr-2021.
96849 | Sanfacon Virginia (State Official) | Brookneal, VA | 15-Apr-2021 | 09-Apr-2021.
96850 | Power Drives, Inc | Erie, PA | 16-Apr-2021 | 15-Apr-2021.
96851 | Evraz Rocky Mountain Steel (State Official) | Pueblo, CO | 16-Apr-2021 | 15-Apr-2021.
96852 | Continental Automotive Systems Inc. (Company Official) | Fletcher, NC | 16-Apr-2021 | 15-Apr-2021.
96853 | Mondelez International Inc. Atlanta Bakery (Union Official) | Atlanta, GA | 16-Apr-2021 | 15-Apr-2021.
96854 | JMS Foodservice, LLC, a wholly-owned indirect subsidiary of The J.M. Smucker Company (State Official) | Suffolk, VA | 16-Apr-2021 | 15-Apr-2021.
96855 | Wincom, Incorporated (State Official) | Blue Ash, OH | 16-Apr-2021 | 15-Apr-2021.
96856 | ISSPro, Inc. (State Official) | Portland, OR | 16-Apr-2021 | 15-Apr-2021.
96857 | HYDRO Systems USA (State Official) | Kent, WA | 16-Apr-2021 | 15-Apr-2021.
96858 | Capitol Manufacturing Company, LLC (State Official) | Crowley, LA | 19-Apr-2021 | 16-Apr-2021.
96859 | Woodgrain (State Official) | La Grande, OR | 19-Apr-2021 | 16-Apr-2021.
96860 | Synchrony Bank (Company Official) | Charlotte, NC | 19-Apr-2021 | 16-Apr-2021.
96861 | Woodgrain (State Official) | Pilot Rock, OR | 20-Apr-2021 | 19-Apr-2021.
96862 | Jeld-Wen, Inc. (State Official) | Bend, OR | 20-Apr-2021 | 19-Apr-2021.
96863 | Jetech Inc. (State Official) | Battle Creek, MI | 20-Apr-2021 | 19-Apr-2021.
96864 | Endo International, PLC/Par Pharmaceutical Holdings (State Official) | Chestnut Ridge, NY | 21-Apr-2021 | 20-Apr-2021.
96865 | Endo International, PLC/Par Pharmaceutical Holdings (State Official) | Chestnut Ridge, NY | 21-Apr-2021 | 20-Apr-2021.
96866 | Nference, Inc. (fka Lumen Biomics) (State Official) | Cambridge, MA | 21-Apr-2021 | 20-Apr-2021.
96867 | voestalpine Rotec (State Official) | Lafayette, IN | 22-Apr-2021 | 21-Apr-2021.
96868 | Colorado Oil & Gas Association (American Job Center) | Denver, CO | 22-Apr-2021 | 21-Apr-2021.
96869 | Pitney Bowes (State Official) | Shelton, CT | 22-Apr-2021 | 21-Apr-2021.
96870 | Bright Wood Corporation (State Official) | Culver, OR | 22-Apr-2021 | 21-Apr-2021.
96871 | Beck Steel Inc. (State Official) | Lubbock, TX | 26-Apr-2021 | 23-Apr-2021.
96872 | Allegheny Wood Products, Inc. (Company Official) | Beckley, WV | 26-Apr-2021 | 21-Apr-2021.
96873 | TTEC Services Corporation (State Official) | Englewood, CO | 28-Apr-2021 | 27-Apr-2021.
96874 | Daktronics Inc. (Company Official) | Brookings, SD | 28-Apr-2021 | 27-Apr-2021.
96875 | NewPark Drilling Fluids, LLC. (American Job Center) | Denver, CO | 28-Apr-2021 | 27-Apr-2021.
96876 | TD Bank (Company Official) | Mount Laurel, NJ | 30-Apr-2021 | 28-Apr-2021.
96877 | Frontier Communications (State Official) | Allen, TX | 30-Apr-2021 | 28-Apr-2021.
96878 | MUFG Union Bank, NA (State Official) | Jersey City, NJ | 30-Apr-2021 | 29-Apr-2021.
96879 | Eaton (State Official) | Belmond, IA | 30-Apr-2021 | 29-Apr-2021.

[FR Doc. 2021-10521 Filed 5-18-21; 8:45 am]

BILLING CODE P